DEPARTMENT OF TRANSPORTATION

Federal Aviation Administration

14 CFR Part 71

[Docket No. FAA-2019-0538; Airspace Docket No. 19-AEA-4]

RIN 2120-AA66

Proposed Amendment of VOR Federal Airway V-37 Due to the Planned Decommissioning of Aylmer, Canada, VHF Omnidirectional Range (VOR) Navigation Aid

AGENCY: Federal Aviation Administration (FAA), DOT.

ACTION: Notice of proposed rulemaking (NPRM).

SUMMARY: This action proposes to amend VHF Omnidirectional Range (VOR) Federal airway V-37 in the northeast United States to reflect changes being made in Canadian airspace. The modification is necessary due to the planned decommissioning of the Aylmer, Canada, VOR navigation aid (NAVAID), which provides navigation guidance for portions of V-37. The Aylmer VOR is being decommissioned as part of NAV CANADA's NAVAID Modernization Program.

DATES: Comments must be received on or before September 3, 2019.

ADDRESSES: Send comments on this proposal to the U.S. Department of Transportation, Docket Operations, 1200 New Jersey Avenue SE, West Building Ground Floor, Room W12-140, Washington, DC 20590; telephone: 1(800) 647-5527, or (202) 366-9826. You must identify FAA Docket No. FAA-2019-0538; Airspace Docket No. 19-AEA-4 at the beginning of your comments. You may also submit comments through the internet at http://www.regulations.gov.

FAA Order 7400.11C, Airspace Designations and Reporting Points, and subsequent amendments can be viewed online at http://www.faa.gov/air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11C at NARA, call (202) 741-6030, or go to https://www.archives.gov/federal-register/cfr/ibr-locations.html.

FAA Order 7400.11, Airspace Designations and Reporting Points, is published yearly and effective on September 15.

FOR FURTHER INFORMATION CONTACT: Colby Abbott, Airspace Policy Group, Office of Airspace Services, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the National Airspace System as necessary to preserve the safe and efficient flow of air traffic.

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2019-0538; Airspace Docket No. 19-AEA-4) and be submitted in triplicate to the Docket Management Facility (see ADDRESSES section for address and phone number). You may also submit comments through the internet at http://www.regulations.gov.

Commenters wishing the FAA to acknowledge receipt of their comments on this action must submit with those comments a self-addressed, stamped postcard on which the following statement is made: “Comments to FAA Docket No. FAA-2019-0538; Airspace Docket No. 19-AEA-4.” The postcard will be date/time stamped and returned to the commenter.

All communications received on or before the specified comment closing date will be considered before taking action on the proposed rule. The proposal contained in this action may be changed in light of comments received. All comments submitted will be available for examination in the public docket both before and after the comment closing date. A report summarizing each substantive public contact with FAA personnel concerned with this rulemaking will be filed in the docket.

Availability of NPRMs

An electronic copy of this document may be downloaded through the internet at http://www.regulations.gov. Recently published rulemaking documents can also be accessed through the FAA's web page at http://www.faa.gov/air_traffic/publications/airspace_amendments/.

You may review the public docket containing the proposal, any comments received and any final disposition in person in the Dockets Office (see ADDRESSES section for address and phone number) between 9:00 a.m. and 5:00 p.m., Monday through Friday, except federal holidays. An informal docket may also be examined during normal business hours at the office of the Operations Support Group, Central Service Center, Federal Aviation Administration, 10101 Hillwood Blvd., Fort Worth, TX 76177.

Availability and Summary of Documents for Incorporation by Reference

This document proposes to amend FAA Order 7400.11C, Airspace Designations and Reporting Points, dated August 13, 2018, and effective September 15, 2018. FAA Order 7400.11C is publicly available as listed in the ADDRESSES section of this document. FAA Order 7400.11C lists Class A, B, C, D, and E airspace areas, air traffic service routes, and reporting points.

Background

NAV CANADA, which operates Canada's civil air navigation service, is continuing to implement various changes to Canada's instrument flight rules (IFR) navigation infrastructure as part of their NAVAID Modernization Program to enhance the efficiency of operations by taking advantage of performance based navigation and modern avionic capabilities. The changes being implemented by NAV CANADA occasionally affect parts of U.S. VOR Federal airways that extend into Canadian airspace. As a result, changes are required to the V-37 description to mirror changes that have been made previously and that are planned to be made on the Canadian side of the border.

In 2014, NAV CANADA published their Aeronautical Information Regulation And Control (AIRAC) Canada update, AIRAC Issue 34, effective November 13, 2014, which revoked the V-37 airway segment from the JARVS fix to the Toronto, ON, Canada, VOR/DME within Canadian airspace. Then, in 2015, NAV CANADA published the Canada Aeronautical Charts Supplement, Volume 19/Number 5, effective August 20, 2015, which reflected the FOWEL and JARVS fixes on V-37 being composed using radials from the Aylmer VOR. Unfortunately, the FAA overlooked accomplishing Part 71 rulemaking actions to incorporate these two amendment activities at the time.

Today, NAV CANADA is planning the decommissioning of the Aylmer, Canada, VOR in March 2020 as one of the VORs identified in their NAVAID Modernization Program. With the planned decommissioning of the Aylmer VOR, the ground-based NAVAID coverage in the area is insufficient to continue to define the JARVS and FOWEL fixes along V-37 within Canada using intersecting VOR radials. Cleveland Air Route Traffic Control Center, Buffalo Terminal Radar Approach Control, and NAV CANADA have agreed that usage of the V-37 airway segment north of the Erie, PA, VOR/Tactical Air Navigation (VORTAC) NAVAID for cross border air traffic is minimal and that there is adequate radar coverage over the area to provide air traffic control (ATC) services. As such, the proposed modification to V-37 would result in the airway terminating at the Erie VORTAC and not crossing into Canada. To overcome the loss of the airway segments extending beyond the Erie VORTAC into Canada, NAV CANADA plans to convert the JARVS and FOWEL fixes to waypoints. IFR traffic could file point to point through the affected area using the waypoints that will be established, or receive ATC radar vectors through the area. Visual flight rules pilots who elect to navigate via the airways through the affected area could also take advantage of the waypoints or ATC services listed previously.

The Proposal

The FAA is proposing an amendment to Title 14 Code of Federal Regulations (14 CFR) part 71 to modify VOR Federal airway V-37. The planned decommissioning of the Aylmer, Canada, VOR has made this action necessary. The proposed change is outlined below.

V-37: V-37 currently extends between the Craig, FL, VORTAC and the Toronto, ON, Canada, VOR/DME, excluding the airspace within Canada. The FAA proposes to remove the airway segments between the Erie, PA, VORTAC and the Toronto, ON, Canada, VOR/DME, and the language excluding the airspace within Canada. The unaffected portions of the existing airway would remain as charted.

All radials in the route description below are unchanged and stated in True degrees.

VOR Federal airways are published in paragraph 6010(a) of FAA Order 7400.11C dated August 13, 2018, and effective September 15, 2018, which is incorporated by reference in 14 CFR 71.1. The VOR Federal airways listed in this document would be subsequently published in the Order.

Regulatory Notices and Analyses

The FAA has determined that this proposed regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11C, Airspace Designations and Reporting Points, dated August 13, 2018, and effective September 15, 2018, is amended as follows:

Paragraph 6010(a) Domestic VOR Federal Airways.

* * * * *

V-37 [Amended]

From Craig, FL; Brunswick, GA; INT Brunswick 014° and Savannah, GA, 177° radials; Savannah; Allendale, SC; Columbia, SC; Charlotte, NC; Pulaski, VA; Elkins, WV; Clarksburg, WV; INT Clarksburg 359° and Ellwood City, PA, 185° radials; Ellwood City; to Erie, PA.

* * * * *

Issued in Washington, DC, on July 8, 2019.
Rodger A. Dean Jr.,
Manager, Airspace Policy Group.

[FR Doc. 2019-15105 Filed 7-16-19; 8:45 am]

BILLING CODE 4910-13-P